DEPARTMENT OF COMMERCE

International Trade Administration

[A-533-809]

Certain Stainless Steel Flanges From India

AGENCY: Import Administration, International Trade Administration, Department of Commerce.

ACTION: Notice of initiation of new shipper review.

SUMMARY: The Department of Commerce has received a request for a new shipper review of the antidumping duty order on certain stainless steel flanges (stainless flanges) from India issued on February 9, 1994 (59 FR 5994). In accordance with our regulations, we are initiating a new shipper review covering Snowdrop Pvt. Ltd. (Snowdrop).

EFFECTIVE DATE: April 3, 2000.

FOR FURTHER INFORMATION CONTACT: Thomas Killiam or Michael Heaney, AD/CVD Enforcement Group III, Import Administration, International Trade Administration, U.S. Department of Commerce, 14th Street and Constitution Avenue, NW, Washington, DC 20230, telephone: (202) 482-5222 or (202) 482-4475, respectively.

SUPPLEMENTARY INFORMATION:

Applicable Statute and Regulations

Unless otherwise indicated, all citations to the Tariff Act of 1930, as amended (the Tariff Act), are references to the provisions effective January 1, 1995, the effective date of the amendments made to the Tariff Act by the Uruguay Round Agreements Act. In addition, unless otherwise indicated, all references to the Department's regulations are to 19 CFR part 351 (1999).

Background

On February 29, 2000, the Department received a timely request, in accordance with section 751(a)(2)(B) of the Tariff Act and 19 CFR 351.214(b) of the Department's regulations, for a new shipper review of the antidumping duty order on stainless flanges from India, which has a February anniversary date. (See Antidumping Duty Order and Amendment to Final Determination of Sales at Less Than Fair Value, 59 FR 5994 (February 9, 1994).

Initiation of Review

Pursuant to the Department's regulations at 19 CFR 351.214(b), Snowdrop certified in its February 29, 2000 submission that it did not export subject merchandise to the United States during the period of the investigation (POI), (July 1, 1992 through December 31, 1992), and that it was not affiliated with any exporter or producer of the subject merchandise to the United States during the POI . Snowdrop submitted documentation establishing the date on which it first shipped the subject merchandise for export to the United States, the volume shipped and the date of the first sale to an unaffiliated customer in the United States.

In accordance with section 751(a)(2)(B) of the Tariff Act and section 351.214(d) of the Department's regulations, we are initiating a new shipper review of the antidumping duty order on stainless flanges from India. The Department's regulations state that a new shipper review normally will cover entries, exports or sales during the twelve-month period immediately preceding the anniversary month if the review is initiated in the month immediately following the anniversary month, as here. 19 CFR 351.214(g)(1)(i)(A). Thus, the review period for this case normally would be February 1, 1999-January 31, 2000. However, we are extending the review period by two months to ensure inclusion of the sale, export and shipment which Snowdrop has requested the Department to review. Thus, the review covers the period February 1, 1999-February 29, 2000. We intend to issue the preliminary results of the review no later than 180 days from the date of publication of this notice.

We will instruct the Customs Service to suspend liquidation of any unliquidated entries of the subject merchandise from Snowdrop, and allow, at the option of the importer, the posting, until completion of the review, of a bond or security in lieu of a cash deposit for each entry of the merchandise exported by Snowdrop, in accordance with 19 CFR 351.214(e).

Interested parties may submit applications for disclosure under administrative protective order in accordance with 19 CFR 351.305(b).

This initiation and this notice are in accordance with section 751(a) of the Tariff Act (19 U.S.C. 1675(a)) and 19 CFR 351.214.

Dated: March 28, 2000.
Joseph A. Spetrini,
Deputy Assistant Secretary, AD/CVD Enforcement, Group III.

[FR Doc. 00-8159 Filed 3-31-00; 8:45 am]

BILLING CODE 3510-DS-P